DEPARTMENT OF ENERGY

Federal Energy Regulatory Commission

[Project No. 2000-036]

Notice of Settlement Accord and Soliciting Comments

February 11, 2003.

Take notice that the following Settlement Accord has been filed with the Commission and is available for public inspection:

a. Type: Comprehensive Relicensing Settlement Accord With Explanatory Statement.

b. Project No.: P-2000-036.

c. Date Filed: February 6, 2003.

d. Applicant: Power Authority of the State of New York.

e. Name of Project: St. Lawrence-FDR Power Project.

f. Location: Located on the St. Lawrence River near Massena, in St. Lawrence County, New York. There are no Federal lands located within the project boundary.

g. Filed Pursuant to: Rule 602 of the Commission's Rules of Practice and Procedure, 18 CFR 385.602.

h. Applicant Contact:

Mr. Joseph J. Seymour, Chairman and Chief Executive Officer, Power Authority of the State of New York, 30 South Pearl Street, Albany, NY 12207-3425, (518) 433-6751.

Mr. John J. Suloway, Director, Licensing Division, Power Authority of the State of New York 123 Main Street, White Plains, NY 10601-3170, (914) 287-3971.

i. FERC Contact: Ed Lee, (202) 502-6082 or E-Mail Ed.Lee@ferc.gov.

j. Deadline Dates: Comments due March 15, 2003.; reply comments due March 30, 2003.

All documents (original and eight copies) should be filed with: Secretary, Federal Energy Regulatory Commission, 888 First Street, NE., Washington, DC 20426. Comments, protests and interventions may be filed electronically via the Internet in lieu of paper; see 18 CFR 385.2001(a)(1)(iii) and the instructions on the Commission's Web site under the “e-Filing” link. The Commission strongly encourages electronic filings.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

Pursuant to Order No. 619, the Federal Energy Regulatory Commission (FERC) now accepts certain “qualified documents” via the Internet in lieu of paper filing. “Qualified documents” may be submitted electronically only by accessing the E-Filing link at http://www.ferc.gov. Comments received via e-mail are not placed in the public record.

• “Qualified documents” that may by submitted electronically in lieu pf paper and the procedures for e-filing “qualified documents” are described in FERC's User Guide for Electronic Filing of Qualified Documents, which can be accessed via FERC's website http://www.ferc.gov/e-filing. For assistance with filing qualified documents electronically, you can contract FERC's Online Support at FERCOnlineSupport@ferc.gov or toll-free at (866) 208-3676, or for TTY, contact (202) 502-8659.

k. Description of Filing: The Power Authority of the State of New York (NYPA) filed the Settlement Accord on behalf of itself and the U.S. Fish and Wildlife Service of the U.S. Department of the Interior; New York State Department of Environmental Conservation; New York State Department of State; New York State Office of Parks, Recreation and Historic Preservation; St. Lawrence Aquarium and Ecological Center Inc.; New York Rivers United; and the St. Lawrence Local Government Task Force. The purpose of the Settlement Accord is to resolve among the signatories all issues associated with issuance of a new license for the project regarding fish enhancement, American Eel passage facility, habitat improvements, wildlife management, St. Lawrence River Research and Education Fund, water temperature, land and vegetation management plans, shoreline stabilization plan, navigation enhancements, and recreation. The Settlement Accord specifically adopts and incorporates (1) five individual agreements, and (2) a letter of understanding between NYPA and National Marine Fisheries Service.

NYPA requests that the Commission accept and incorporate into any new license the protection, mitigation, and enhancement measures stated in the Settlement Accord. Comments and reply comments on the Settlement Accord and supporting documentation are due on the dates listed above.

l. A copy of the application is available for inspection and reproduction during normal business hours (8:30 a.m. to 5 p.m. Eastern time) at the Commission's Public Reference Room, located at 888 First Street, NE., Room 2-A, Washington, DC 20426, or by calling (202)502-8371. In addition, the application may be viewed and/or printed via the internet through FERC's Home Page (http://www.ferc.gov). From FERC's Home Page on the internet, the application and other filings and issuances regarding this application are available in the Federal Energy Regulatory Records Information System (FERRIS). To access this information in FERRIS, for the St. Lawrence Hydroelectric Project license application, enter the application's docket number (i.e., P-2000) and sub-docket number (i.e., 036) where specified. For assistance, please contact FERC Online Support at FERCOnlineSupport@ferc.gov or toll-free at (866)208-3676, or for TTY, contact (202)502-8659. A copy of the application is also available for inspection and reproduction from the applicant at the address in item h. above.

Magalie R. Salas,
Secretary.

[FR Doc. 03-3797 Filed 2-14-03; 8:45 am]

BILLING CODE 6717-01-P